DEPARTMENT OF THE INTERIOR

Minerals Management Service

Outer Continental Shelf (OCS), Alaska OCS Region

AGENCY: Minerals Management Service (MMS), Interior.

ACTION: Notice of availability of the final Environmental Impact Statement (EIS) for the proposed oil and gas lease sales in the Beaufort Sea, Alaska.

SUMMARY: MMS announces the availability of the final EIS prepared by MMS for the proposed OCS lease sales 186 (2003), 195 (2005), and 202 (2007) offshore Beaufort Sea, Alaska.

FOR FURTHER INFORMATION CONTACT: Minerals Management Service, Alaska OCS Region, 949 East 36th Avenue, Anchorage, Alaska 99508-4363, Attention: Mr. Paul Lowry, telephone: (907) 271-6574 or toll free 1-800-764-2627.

SUPPLEMENTARY INFORMATION: This EIS assesses three lease sales in the final 2002-2007, 5-year oil and gas leasing program for the Beaufort Sea OCS planning area. Sale 186 is scheduled for 2003; sale 195 for 2005; and sale 202 for 2007.

Federal Regulations (40 CFR 1502.4) suggest analyzing similar or like proposals in a single EIS. The proposal for each sale is to offer 1,877 whole or partial lease blocks in the Beaufort Sea planning area, covering about 9.8 million acres (3.95 million hectares) for leasing. The proposed sale area is seaward up to 60 miles offshore of the State of Alaska submerged land boundary in the Beaufort Sea. It extends from the Canadian border on the east to near Barrow, Alaska, on the west.

EIS Availability: Persons interested in reviewing the final EIS “OCS EIS/EA, MMS 2003-01” (volumes I through IV) can contact the MMS Alaska OCS Region. The documents are available for public inspection between the hours of 8 a.m. and 4 p.m., Monday through Friday at: Minerals Management Service, Alaska OCS Region, Resource Center, 949 East 36th Avenue, Room 330, Anchorage, Alaska 99508-4363, telephone: (907) 271-6070, or (907) 271-6621, or toll free at 1-800-764-2627. Requests may also be sent to MMS at akwebmaster@mms.gov. You may obtain single copies of the final EIS, or a CD/ROM version, or the Executive Summary from the same address. The Executive Summary (MMS 2003-02) is available in English or Native Inupiaq languages.

You may look at copies of the final EIS in the following libraries:

Alaska Pacific University, Academic Support Center Library, 4101 University Drive, Anchorage, Alaska;

Alaska Resources Library and Information Service, U.S. Department of the Interior, 3150 C Street, Suite 100, Anchorage, Alaska;

Alaska State Library, Government Publications, State Office Building, 333 Willoughby, Juneau, Alaska;

Canadian Joint Secretariat Librarian, Inuvikon Northwest Territories, Canada;

Department of Indian and Northern Affairs, Yellowknife, Northwest Territories, Canada;

Fairbanks North Star Borough, Noel Wien Library, 1215 Cowles Street, Fairbanks, Alaska;

George Francis Memorial Library, Kotzebue, Alaska:

Ilisaavik Library, Shishmaref, Alaska;

Juneau Public Library, 292 Marine Way, Juneau, Alaska;

Kaveolook School Library, Kaktovik, Alaska;

Kegoyah Kozpa Public Library, Nome, Alaska;

North Slope Borough School District, Library/Media Center, Barrow, Alaska;

Northern Alaska Environmental Center Library, 218 Driveway, Fairbanks, Alaska;

Tikigaq Library, Point Hope, Alaska;

Tuzzy Consortium Library, Barrow, Alaska;

University of Alaska Anchorage, Consortium Library, 3211 Providence Drive, Anchorage, Alaska;

University of Alaska Fairbanks, Elmer E. Rasmuson Library, Government Documents, 310 Tanana Drive, Fairbanks, Alaska;

University of Alaska Fairbanks, Geophysical Institute, Government Documents, Fairbanks, Alaska;

University of Alaska Fairbanks, Institute of Arctic Biology, 311 Irving Building, Fairbanks, Alaska;

University of Alaska, Southeast, 11120 Glacier Highway, Juneau, Alaska;

U.S. Army Corps of Engineers Library, U.S. Department of Defense, Elmendorf Air Force Base, Anchorage, Alaska;

Valdez Consortium Library, 200 Fairbanks Street, Valdez, Alaska;

Z. J. Loussac Library, 3600 Denali Street, Anchorage, Alaska.

Dated: January 17, 2003.
Thomas A. Readinger,
Associate Director for Offshore Minerals Management.
Approved:
Dated: January 22, 2003.
Willie R. Taylor,
Director, Office of Environmental Policy and Compliance.

[FR Doc. 03-3367 Filed 2-10-03; 8:45 am]

BILLING CODE 4310-MR-P